DEPARTMENT OF THE INTERIOR

Bureau of Land Management

Notice of Realty Action; Competitive Sale of Public Lands in Clark County, Nevada

The following lands have been designated for disposal under Public Law 105-263, the Southern Nevada Public Land Management Act of 1998 (112 Stat. 2343); they will be sold competitively in accordance with Section 203 and Section 209 of the Federal Land Policy and Management Act of 1976 (90 Stat. 2750, 43 U.S.C. 1713,1719, and 1740) at not less than the appraised fair market value (FMV).

Mount Diablo Meridian, Nevada
Serial No. | Legal description | Gross acreage
N-66693-00-90 | T. 21 S., R. 60 E., sec. 17: SW¼NW¼SE¼ | 10.00
N-66694-00-91 | T. 21 S., R. 60 E., sec. 18: E½NW¼SE¼SW¼ | 5.00
N-66695-00-92 | T. 21 S., R. 60 E., sec. 31: lot 13 | 5.00
N-66696-00-93 | T. 21 S., R. 60 E., sec. 31: E½SW¼SW¼NE¼ | 5.00
N-66697-00-94 | T. 22 S., R. 60 E., sec. 11: NE¼NW¼NW¼ | 10.00
N-66698-00-95 | T. 22 S., R. 60 E., sec. 12: SE¼NE¼SE¼NW¼, E½SE¼SE¼NW¼ | 7.50
N-66699-00-96 | T. 22 S., R. 60 E., sec. 12: NE¼SE¼NE¼NE¼ | 2.50
N-66700-00-97 | T. 22 S., R. 60 E., sec. 12: S½SW¼NW¼NE¼ | 5.00
N-66701-00-98 | T. 22 S., R. 60 E., sec. 12: SE¼SE¼NW¼NE¼ | 2.50
N-66702-00-99 | T. 22 S., R. 60 E., sec. 12: E½SW¼SE¼NE¼, SW¼SE¼SE¼NE¼ | 7.50
N-66703-00-100 | T. 22 S., R. 60 E., sec. 12: SW¼SE¼NE¼NE¼, N½NE¼SE¼NE¼, NE¼NW¼SE¼NE¼, W½NW¼SE¼NE¼ | 15.00
N-66704-00-101 | T. 22 S., R. 60 E., sec. 12: E½SE¼SW¼NE¼ | 5.00
N-66705-00-102 | T. 22 S., R. 61 E., sec. 7: SE¼SE¼NW¼ | 10.00
N-66706-00-103 | T. 22 S., R. 61 E., sec. 19: lot 5 | 1.25
N-66707-00-104 | T. 22 S., R. 61 E., sec. 19: lot 9 | 1.25
N-66708-00-105 | T. 22 S., R. 61 E., sec. 19: lot 10 | 1.25
N-66709-00-106 | T. 22 S., R. 61 E., sec. 19: lot 11 | 1.25
N-66710-00-107 | T. 22 S., R. 61 E., sec. 19: lot 12 | 1.25
N-66711-00-108 | T. 22 S., R. 61 E., sec. 19: lot 14 | 1.33
N-66712-00-109 | T. 22 S., R. 61 E., sec. 20: lot 60 | 5.00
N-66713-00-110 | T. 22 S., R. 61 E., sec. 20: lot 79 | 5.00
N-66714-00-111 | T. 22 S., R. 61 E., sec. 20: lot 80 | 5.00
N-66715-00-112 | T. 22 S., R. 61 E., sec. 20: lot 72 | 5.00
N-66716-00-113 | T. 22 S., R. 61 E., sec. 20: lot 84 | 5.00
N-66717-00-114 | T. 22 S., R. 61 E., sec. 20: lot 87 | 5.00
N-66729-00-115 | T. 22 S., R. 61 E., sec. 19: lot 15 | 1.25

Upon publication of this notice and until the completion of the sale, the BLM is no longer accepting land use applications affecting any parcel being offered for sale. Any applications filed after this notice for rights-of-way, permits, leases, and other uses will be returned to the applicants with no action taken. If the land is sold, conveyance of the locatable mineral interests will occur simultaneously with the sale of the land. The locatable mineral interests being offered have no known mineral value. Acceptance of a sale offer will constitute an application for conveyance of those mineral interests. The applicant will be required to pay a $50.00 nonrefundable filing fee in conjunction with the final payment for processing of the conveyance of the locatable mineral interests.

The terms and conditions applicable to the sale are as follows:

All Parcels Subject to the Following

1. All leaseable and saleable mineral deposits are reserved on land sold; permittees, licensees, and lessees, retain the right to prospect for, mine, and remove the minerals owned by the United States under applicable law and any regulations that the Secretary of the Interior may prescribe, including all necessary access and exit rights.

2. A right-of-way is reserved for ditches and canals constructed by authority of the United States under the Act of August 30, 1890 (43 U.S.C. 945).

3. All land parcels are subject to all valid and existing rights. Encumbrances of record are available for review during business hours, 7:30 a.m. to 4:15 p.m., Monday through Friday, at the Bureau of Land Management, Las Vegas Field Office, 4765 Vegas Drive, Las Vegas, Nevada.

4. All land parcels are subject to reservations for roads, public utilities and flood control purposes, both existing and proposed, in accordance with the local governing entities' Transportation Plans.

5. All purchaser's/patentees, by accepting a patent, agree to indemnify, defend, and hold the United States harmless from any costs, damages, claims, causes of action, penalties, fines, liabilities, and judgements of any kind or nature arising from the past, present, and future acts or omissions of the patentee or their employees, agents, contractors, or lessees, or any third-party, arising out of, or in connection with, the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of federal, state, and local laws and regulations that are now, or may in the future become, applicable to the real property; (2) Judgements, claims or demands of any kind assessed against the United States; (3) Costs, expenses, or damages of any kind incurred by the United States; (4) Other releases or threatened releases of solid or hazardous waste(s) and/or hazardous substances(s), as defined by federal or state environmental laws; off, on, into or under land, property and other interests of the United States; (5) Other activities by which solids or hazardous substances or wastes, as defined by federal and state environmental laws are generated, released, stored, used or otherwise disposed of on the patented real property, and any cleanup response, remedial action, or other actions related in any manner to said solid or hazardous substances or wastes; or (6) Natural resource damages as defined by federal and state law. This covenant shall be construed as running with the patented real property and may be enforced by the United States in a court of competent jurisdiction.

The appraisal reports for each parcel will be available for public review at the BLM's Las Vegas Field Office on or before September 1, 2000.

Each parcel will be offered via the Internet, by sealed bid, and at oral auction. Pre-auction bidding via the Internet will be conducted from September 25, 2000, through October 24, 2000. Internet bidding procedures will be available on or before September 25, 2000 at www.auctionrp.com. All sealed bids must be received in the BLM's Las Vegas Field Office(LVFO), 4765 Vegas Drive, Las Vegas, NV 89108, by no later than 4:15 p.m. PST, October 30, 2000. Sealed bid envelopes must be marked on the lower front left corner with the parcel number and sale date. Bids must be for not less than the appraised fair market value (FMV), with a separate bid submitted for each parcel.

Each sealed bid and the highest written Internet bid shall be accompanied by a certified check, money order, bank draft, or cashier's check made payable to the Bureau of Land Management, for not less than 10 percent of the amount bid.

The bid deposit for the highest qualified written Internet bid must be received at the Bureau of Land Management, Las Vegas Field Office, 4765 Vegas Drive, Las Vegas, NV 89108 by 4:15 PST on October 27, 2000. The highest qualified written Internet bid or sealed bid on each parcel will determine the starting monetary point for oral bidding. If no written Internet bids or sealed bids are received, oral bidding will begin at the appraised FMV. The parcels will be offered for competitive sale by oral auction beginning at 9 a.m. PDT, November 2, 2000, at the Clark County Commission Chambers, Clark County Government Center, 500 S. Grand Central Parkway, Las Vegas, Nevada. Registration for oral bidding will begin at 8 a.m. the day of sale and will continue throughout the auction. All bidders oral are required to register.

The highest qualifying bid for any parcel, whether written Internet, sealed, or oral, will be declared the highest bid. The apparent high bidder, if an oral bidder, must submit the required bid deposit immediately following the close of the sale in the form of cash, personal check, bank draft, cashiers check, money order, or any combination thereof, made payable to the Bureau of Land Management, for not less than 20 percent of the amount bid.

The remainder of the full bid price, whether written Internet, sealed or oral, must be paid within 180 calendar days of the date of the sale. Failure to pay the full price within the 180 days will disqualify the apparent high bidder and cause the bid deposit to be forfeited to the BLM. Unsold parcels may be offered on the Internet beginning November 13, 2000. Internet auction procedures will be available at www.auctionrp.com on or before November 13, 2000. If unsold on the Internet, parcels may be offered at future auctions without additional legal notice.

Federal law requires that bidders must be U.S. citizens 18 years of age or older; a corporation subject to the laws of any State or of the United States; a State, State instrumentality, or political subdivision authorized to hold property; or an entity, including but not limited to associations or partnerships, capable of holding property or interests therein under the law of the State of Nevada. Certification of qualification, including citizenship or corporation or partnership, must accompany the bid deposit.

In order to determine the fair market value of the subject public lands through appraisal, certain assumptions have been made on the attributes and limitations of the lands and potential effects of local regulations and policies on potential future land uses. Through publication of this notice, the Bureau of Land Management gives notice that these assumptions may not be endorsed or approved by units of local government. Furthermore, no warranty of any kind shall be given or implied by the United States as to the potential uses of the lands offered for sale; conveyance of the subject lands will not be on a contingency basis. It is the buyers' responsibility to be aware of all applicable local government policies and regulations that would affect the subject lands. It is also the buyers responsibility to be aware of existing or projected use of nearby properties. When conveyed out of federal ownership, the lands will be subject to any applicable reviews and approvals by the respective unit of local government for proposed future uses, and any such reviews and approvals would be the responsibility of the buyer. Any land lacking access from a public road or highway will be conveyed as such, and future access acquisition will be the responsibility of the buyer.

Detailed information concerning the sale, including the reservations, sale procedures and conditions, planning and environmental documents, is available at the Bureau of Land Management, Las Vegas Field Office, 4765 Vegas Drive, Las Vegas, NV 89108, or by calling (702) 647-5114. Some but not all of this information will also available on the Internet at http://www.nv.blm.gov. Click on Southern Nevada Public Land Management Act, then click on Land Sale Information.

For a period of 45 days from the date of publication of this notice in the Federal Register, the general public and interested parties may submit comments to the Field Manager, Las Vegas Field Office, 4765 Vegas Drive, Las Vegas, Nevada 89108. Any adverse comments will be reviewed by the State Director, who may sustain, vacate, or modify this realty action. In the absence of any adverse comments, this realty action will become the final determination of the Department of the Interior. The Bureau of Land Management may accept or reject any or all offers, or withdraw any land or interest in the land from sale, if, in the opinion of the authorized officer, consummation of the sale would not be fully consistent with FLPMA or other applicable laws or is determined not in the publics interest. Any comments received during this process, as well as the commentors name and address, will be available to the public in the administrative record and/or pursuant to a Freedom of Information Act request. You may indicate for the record that you do not wish your name and/or address made available to the public. Any determination by the Bureau of Land Management to release or withhold the names and/or addresses of those who comment will be made on a case-by-case basis. A commentor's request to have their name and/or address withheld from public release will be honored to the extent permissible by law.

Lands will not be offered for sale until at least 60 days after the date of publication of this notice in the Federal Register.

Dated: June 30, 2000.
Mark T. Morse,
Field Manager.

[FR Doc. 00-17854 Filed 7-14-00; 8:45 am]

BILLING CODE 4310-HC-U